DEPARTMENT OF HOMELAND SECURITY

Federal Emergency Management Agency

44 CFR Part 206

[Docket ID FEMA-2014-0005]

RIN 1660-AA83

Factors Considered When Evaluating a Governor's Request for Individual Assistance for a Major Disaster; Correction

AGENCY: Federal Emergency Management Agency, DHS.

ACTION: Correcting amendment.

SUMMARY: On March 21, 2019, the Federal Emergency Management Agency (FEMA) published a final rule revising its regulations to update the factors it uses to determine whether to recommend provision of Individual Assistance during a major disaster. That final rule inadvertently failed to remove a table. This document corrects that error.

DATES: Effective on January 14, 2020.

FOR FURTHER INFORMATION CONTACT: Mark Millican, FEMA, Individual Assistance Division, 500 C Street SW, Washington, DC 20472-3100, (phone) 202-212-3221 or (email) FEMA-IA-Regulations@fema.dhs.gov.

SUPPLEMENTARY INFORMATION: On March 21, 2019, the Federal Emergency Management Agency (FEMA) published a final rule (84 FR 10632) revising 44 CFR part 206 to comply with section 1109 of the Sandy Recovery Improvement Act of 2013 (Pub. L. 113-2). As part of the revisions, FEMA adopted a fiscal capacity analysis that uses the total taxable resources of a State instead of the population numbers and size categories in the table at the end of 44 CFR 206.48(b). As FEMA discussed in the preamble to the final rule (84 FR 10632, at 10646), FEMA intended to remove the outdated table, but the amendatory instruction did not include this specific direction. This document corrects that error.

List of Subjects in 44 CFR Part 206

Administrative practice and procedure, Coastal zone, Community facilities, Disaster assistance, Fire prevention, Grant programs—housing and community development, Housing, Insurance, Intergovernmental relations, Loan programs—housing and community development, Natural resources, Penalties, and Reporting and recordkeeping requirements.

Accordingly, 44 CFR part 206 is corrected by making the following correcting amendment:

PART 206—FEDERAL DISASTER ASSISTANCE

1. The authority citation for part 206 continues to read as follows:

Authority: Robert T. Stafford Disaster Relief and Emergency Assistance Act, 42 U.S.C. 5121 through 5207; Homeland Security Act of 2002, 6 U.S.C. 101 et seq.; Department of Homeland Security Delegation 9001.1.

§ 206.48 [AMENDED]

2. In § 206.48, remove the table at the end of paragraph (b).

Pete Gaynor,
Acting Administrator, Federal Emergency Management Agency.

[FR Doc. 2020-00105 Filed 1-13-20; 8:45 am]

BILLING CODE 9111-23-P